DEPARTMENT OF DEFENSE

Department of the Navy

Record of Decision for Ford Island Development, Pearl Harbor, HI

AGENCY: Department of the Navy, DOD.

ACTION: Notice.

SUMMARY: The Department of the Navy (DON) announces its decision to consolidate selected operations on and to pursue limited private development of Ford Island. The decision includes construction of new facilities and the adaptive reuse of existing facilities on Ford Island as well as the sale or lease of selected DON properties on Oahu, Hawaii, with the proceeds of such sale or lease to be used to develop DON facilities at Ford Island.

FOR FURTHER INFORMATION CONTACT: Mr. Stanley Uehara (PLN231), Pacific Division, Naval Facilities Engineering Command, 258 Makalapa Drive, Suite 100, Pearl Harbor, HI 96860-3134, telephone (808) 471-9338, facsimile (808) 474-5909.

SUPPLEMENTARY INFORMATION: The Record of Decision (ROD) in its entirety is provided as follows:

Pursuant to Section 102(2)(C) of the National Environmental Policy Act (NEPA) of 1969, 42 U.S.C. Section 4332(2)(C), and regulations of the Council on Environmental Quality (CEQ) that implement NEPA, 40 CFR Parts 1500-1508, the Department of the Navy (DON) announces its decision to consolidate selected operations at Pearl Harbor onto Ford Island by constructing new facilities and adaptively reusing existing structures. This decision will include the sale or lease of selected DON properties on Oahu, Hawaii with the use of proceeds to develop DON facilities at Ford Island. This action will improve the efficiency and effectiveness of its operations, make greater use of its properties, and improve the quality of life of sailors and their families. This will be accomplished as set out in Alternative B (Medium Intensity), described in the Final Programmatic Environmental Impact Statement (PEIS) as the preferred alternative.

DON development on Ford Island may include new construction for up to 420 housing units, Bachelor Enlisted Quarters (BEQ) for up to 1,000 personnel, and infrastructure improvements such as roads and utilities. The development may also include a combination of new construction and adaptive reuse of existing structures for administrative space to accommodate 1,500 additional employees, and a consolidated training complex. Additionally, the action includes private development of up to 75 acres on Ford Island, which could include a historic visitor attraction, and allows for the lease of Halawa Landing and Iroquois Point/Pu‘uloa Housing, and sale of Waikele Branch, Naval Magazine (NAVMAG) Pearl Harbor and property at the former Naval Air Station (NAS) Barbers Point.

The action will be implemented through the Ford Island legislation (10 U.S.C. Section 2814), and other legislative authorities such as the annual Military Construction (MILCON) program, use of Non-Appropriated Funds (NAF), and the Military Housing Privatization Initiative (10 U.S.C. Sections 2871-2885).

Alternatives Considered: The PEIS evaluated four alternatives, including “no action,” that represent varying intensities of development on Ford Island. With the exception of “no action” (Alternative D), the alternatives provide for the conveyance and reuse—by either sale or lease—of selected DON properties on Oahu to support the Ford Island development.

Alternative A provides for both DON and private development on Ford Island. DON development would consist of new construction for up to 420 family housing units, Bachelor Enlisted Quarters (BEQ) for up to 1,000 personnel, and infrastructure improvements such as roads and utilities. Development would also include a combination of new construction and adaptive reuse of existing structures for administrative space to accommodate 1,500 additional employees, and a consolidated training complex. Private development envisioned includes an historic visitor attraction, commercial, and light industrial uses that could employ up to 5,600 workers and attract up to 15,000 daily visitors. The outlying properties will be conveyed or reused in the following ways in this alternative: The Halawa Landing property will be available for lease in support of an historic visitor attraction on Ford Island. The Iroquois Point/Pu‘uloa Housing will be available for lease for residential and directly related uses (e.g. playgrounds). Waikele Branch NAVMAG Pearl Harbor and the property at the former NAS Barbers Point will be offered for sale. Based on DON’s marketing analysis, it is anticipated that these properties will be reused for residential and related land uses.

Alternative B, Medium Intensity, is similar to Alternative A and provides for both DON and private development on Ford Island. DON development would be the same as that in Alternative A. Private development includes an historic visitor attraction but assumes a lower intensity development for commercial and light industrial uses. Private development could have a population of 2,800 employees and 6,700 daily visitors. Halawa Landing will be leased in support of an historic visitor attraction on Ford Island. Other selected properties identified under Alternative A will be either leased or sold as noted to support the Ford Island Development Program.

Alternative C does not provide for private development on Ford Island. DON population could total 3,000 employees and 3,000 residents. In this alternative, the Halawa Landing property will not be leased. Selected properties identified under Alternative A will be either sold or leased as noted to support the Ford Island Development Program. Alternative C is the environmentally preferred action alternative due to limited private development.

Alternative D is the no action alternative.

Environmental Impacts: DON analyzed the direct, indirect, and cumulative impacts of each alternative on the environment. Potential significant impacts that could result from Alternative B are discussed below: There is potential for significant impacts on the wastewater collection system at Pearl Harbor. The main side sewage lift station, SY-001, which is currently at capacity, will be unable to accommodate additional sewage discharge flows. DON will initiate a utility study to determine what wastewater collection system improvements are necessary, including the additional capacity needed at lift station SY-001. DON will upgrade the SY-001 lift station to meet the additional capacity requirements.

There is potential for significant impacts on traffic. Projected traffic volumes at Kamehameha Highway and Ford Island Boulevard would exceed the intersection capacity during morning and afternoon peak hours. A combination of intersection improvements and travel demand management measures, such as mass transit and staggered work hours could mitigate the intersection impacts. For all areas leased by private developers, DON will require the developer to submit a Traffic Impact Analysis Report (TIAR) to identify what mitigation would be required so that traffic volumes would not exceed intersection capacities. DON will prepare follow-on NEPA documentation for future development projects on leased property that have adverse impacts on traffic in order to identify mitigation requirements.

There is a potential for impacts to marine species listed as endangered or threatened under the Endangered Species Act from project specific construction activities. The National Marine Fisheries Service (NMFS) chose to reserve comment until individual project specific actions are available for review. DON will review known data concerning marine species as specific projects are proposed and will consult with the NMFS as appropriate.

There is potential for significant impacts on cultural resources. The Section 106 process of the National Historic Preservation Act has been concluded with the execution of a Programmatic Agreement (PA) between DON, the Advisory Council on Historic Preservation, and the State Historic Preservation Officer. Other consulting parties, including the National Trust for Historic Preservation (NTHP), participated in development of the PA and signed the PA as interested parties. DON will carry out the Ford Island Development Program in accordance with the stipulations of the PA. The PA provides for the review of individual projects at Ford Island and contains provisions addressing potential effects of the lease and sale of lands with historic properties.

Response to Comments Received Regarding the PEIS: DON received comments from ten organizations and individuals on the Final PEIS. Most comments had been responded to in the Final PEIS. The following are new and substantive comments.

EPA commented that DON is responsible for oversight of environmental protection efforts on leased properties, especially related to the protection of water quality and implementation of pollution prevention measures. DON acknowledges that it will fulfill its responsibility as owner of leased properties pursuant to the specific environmental compliance requirements.

National Trust for Historic Preservation (NTHP) notified DoN that NTHP's written comments prepared for submittal at the August 2, 2001 public hearing on the Draft PEIS were not included in the Final PEIS. This omission was unintentional. However, DON has carefully considered Mr. David Scott's summary of NTHP's written comments, presented at the August 2, 2001 public hearing. NTHP also commented about the lack of an Integrated Cultural Resources Management Plan (ICRMP) for the Pearl Harbor Naval Complex. DON has resolved this issue by releasing the Final ICRMP for Pearl Harbor Naval Complex dated March 2002. Issues addressing impacts to historic properties were resolved with the signing of the PA.

The Commander Navy Region Hawaii determined that the discussion of jurisdiction for provision of police and security functions contained in the PEIS was incorrect. Jurisdiction is concurrent rather than exclusively federal as discussed in the PEIS. The issue of jurisdiction has no effect on the environmental analysis.

Conclusion: In determining whether or not to develop Ford Island and if so, to what level of intensity, I considered the following: DON operational and readiness requirements; anti-terrorism/force protection requirements; benefits to DoN; appropriate uses of historic resources; environmental impacts; costs associated with construction, operation, and maintenance; and comments received from the public on the Draft and Final PEIS. After carefully weighing all of these factors and analyzing the information presented in the Final PEIS, I have determined that the preferred alternative, Alternative B, best meets DON's needs. Alternative B meets DON's operational and readiness requirements with implementation of mitigation to minimize significant impacts on the environment. Alternative A was rejected because the additional private development intensity provided is not needed to satisfy DoN's Ford Island Development Program. Alternative C was rejected because there is limited economic return, which is needed to attract prospective developers to meet DoN's development needs on Ford Island. Alternative D was rejected as it would not enable DoN to improve the efficiency and effectiveness of its operations, make greater use of its properties, and improve the quality of life of sailors and their families.

As specific projects are proposed during the development of Ford Island, additional project-specific environmental analyses will be prepared where necessary and, if appropriate, may be tiered from the Programmatic EIS. DoN will continue to coordinate with other Federal, State, and local entities as necessary to determine if any additional mitigation measures are appropriate.

Dated: April 9, 2002.
Duncan Holaday,
Deputy Assistant Secretary of the Navy (Installations and Facilities).

Dated: April 10, 2002.
T.J. Welsh,
Lieutenant Commander, Judge Advocate General's Corp, U.S. Navy, Federal Register Liaison Officer.

[FR Doc. 02-9082 Filed 4-12-02; 8:45 am]

BILLING CODE 3810-FF-P